DEPARTMENT OF ENERGY

Federal Energy Regulatory Commission

[Docket Nos. CP98-150-000, et al. and CP98-151-000]

Millennium Pipeline Company, L.P., Columbia Gas Transmission Corp.; Notice of Availability of the Final Environmental Impact Statement for The Proposed Millennium Pipeline Project

October 4, 2001.

The staff of the Federal Energy Regulatory Commission (FERC or Commission) has prepared a Final Environmental Impact Statement (FEIS) on the natural gas pipeline facilities proposed by Millennium Pipeline Company (Millennium) and Columbia Gas Transmission Corporation (Columbia) in the above-referenced dockets.

The FEIS was prepared to satisfy the requirements of the National Environmental Policy Act. The staff concludes that approval of the proposed project with the appropriate mitigating measures as recommended, would have limited adverse environmental impact. The FEIS also evaluates alternatives to the proposal, including an alternative called the ConEd Offset/Taconic Parkway Alternative that is preferred; major route alternatives, including system alternatives; and route variations.

The FEIS addresses the potential environmental effects of:

1. Construction and operation of these facilities in New York:

• 373.5 miles of 36-inch-diameter pipeline;

• 43.8 miles of 24-inch-diameter pipeline;

• 3 measurement and regulating stations and 1 regulator station; and

• associated pipeline facilities, including pipeline and block valves, pig launchers and receivers, blowdown valves, and cathodic protection rectifier beds.

2. Acquisition from Columbia of:

• 6.7 miles of 24-inch-diameter pipeline in Rockland County, New York, that would be used for the new pipeline system between mileposts 376.4 and 383.3; and

• 20.1 miles of laterals and 28 metering and regulation stations in New York and Pennsylvania, and one compressor station in Pennsylvania.

The purpose of the proposed facilities would be to transport about 700,000 decatherms per day of natural gas to eight transportation customers with delivery points in the State of New York.

The FEIS has been placed in the public files of the FERC and is available for public inspection at: Federal Energy Regulatory Commission, Public Reference and Files Maintenance Branch, 888 First Street, N.E., Room 2A, Washington, DC 20426, (202) 208-1371.

Copies of the FEIS have been mailed to Federal, state and local agencies, public interest groups, individuals who have requested the FEIS, newspapers, and parties to this proceeding. Copies of the Executive Summary have been mailed to individuals who filed form letters but did not request a copy of the FEIS.

Additional information about the proposed project is available from the Commission's Office of External Affairs, at (202) 208-1088 or on the FERC Internet website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-25491 Filed 10-10-01; 8:45 am]

BILLING CODE 6717-01-P